DEPARTMENT OF TRANSPORTATION

Federal Aviation Administration

14 CFR Parts 61, 121, and 135

[Docket No. FAA-2010-0100; Amdt. Nos. 61-130B, 121-365A, 135-127A]

RIN 2120-AJ67

Pilot Certification and Qualification Requirements for Air Carrier Operations; Technical Amendment

AGENCY: Federal Aviation Administration, DOT.

ACTION: Final rule; technical amendment.

SUMMARY: The FAA is correcting a final rule published on July 15, 2013 (78 FR 42324). In that rule, the FAA amended its regulations to create new certification and qualification requirements for pilots in air carrier operations. The FAA unintentionally required without notice and comment a pilot serving as a second in command in part 135 commuter operations to have an airline transport pilot certificate and an aircraft type rating, and a pilot in command in part 135 commuter operations to have 1,000 hours of air carrier experience. This document corrects those errors and makes several additional miscellaneous corrections.

DATES: Effective Date: December 24, 2013.

FOR FURTHER INFORMATION CONTACT: For technical questions concerning this correction contact Barbara Adams, Air Transportation Division, AFS-200, Federal Aviation Administration, 800 Independence Avenue SW., Washington, DC 20591; telephone (202) 267-8166; facsimile (202) 267-5299, email barbara.adams@faa.gov.

For legal questions concerning this correction contact Anne Moore, Office of the Chief Counsel—International Law, Legislation, and Regulations Division, AGC-240, Federal Aviation Administration, 800 Independence Avenue SW., Washington, DC 20591; telephone (202) 267-3123; facsimile (202) 267-7971, email anne.moore@faa.gov.

SUPPLEMENTARY INFORMATION:

Background

On July 15, 2013, the FAA published a final rule entitled, “Pilot Certification and Qualification Requirements for Air Carrier Operations” (78 FR 42324). In that final rule, which became effective July 15, 2013, the FAA revised the pilot certificate requirements for a second in command (SIC) in part 121 operations. Specifically, § 121.436(a) requires a pilot in command to have an airline transport pilot (ATP) certificate, an aircraft type rating for the aircraft flown, and 1,000 hours of air carrier experience obtained as SIC in part 121 operations, as pilot in command (PIC) in operations conducted under §§ 135.243(a)(1), as PIC in operations conducted under § 91.1053(a)(2)(i), or any combination thereof. Section 121.436(b) requires the SIC to hold an ATP certificate and an aircraft type rating for the airplane flown.

The FAA intended these certification requirements to apply only to pilots serving in part 121 operations. Existing § 135.3 states, however, that each certificate holder that conducts commuter operations under part 135 with airplanes in which two pilots are required by the aircraft type certificate shall comply with subparts N and O of part 121 instead of the requirements of subparts E, G, and H of part 135. Because the certification requirements in § 121.436 are located in subpart O of part 121, a PIC serving in part 135 commuter operations in airplanes that require two pilots by type certificate would be required by reference to comply with the new 1,000-hour air carrier experience requirement. Likewise, an SIC in those operations would now be required by reference to hold an ATP certificate and an aircraft type rating. The FAA did not discuss this issue in the preamble to the final rule nor did the FAA intend to impose this requirement on part 135 commuter operations.

Technical Amendment

Because the FAA did not intend to impose additional requirements on PICs and SICs serving in part 135 commuter operations that require two pilots by type certificate, the FAA is revising § 135.3(b) to clarify that an SIC in part 135 commuter operations does not need to comply with § 121.436(b) but may continue to hold a commercial pilot certificate with an instrument rating. The FAA is also amending § 121.436(a) to make clear that the 1,000 hour air carrier experience requirement applies only to PICs in part 121 operations.

The FAA is also making a number of minor corrections that have been identified since publication of the final rule. The FAA is amending § 61.35 to clarify the age requirements for applicants who take the knowledge test for an ATP certificate with an airplane category multiengine class rating prior to August 1, 2014. The final rule established that applicants who take the knowledge test for an ATP certificate with an airplane category multiengine rating on or after August 1, 2014, must be at least 18 years old. 14 C.F.R. § 61.35(a)(3)(iii)(B). This age was established by subtracting 60 months, which will be the validity period for the ATP multiengine knowledge test, from the minimum age of 23 for an unrestricted ATP certificate. Although discussed in guidance materials, § 61.35 is silent with regard to the age requirement for applicants who take the existing ATP knowledge test before August 1, 2014. This amendment clarifies that an applicant for an ATP knowledge test taken prior to August 1, 2014, which has a validity period of 24 months, must be at least 21 years of age.

The FAA is also revising § 61.39(a)(1)(ii) to clarify that the 60-month expiration period for the knowledge test for an ATP certificate with a multiengine class rating applies to knowledge tests taken after July 31, 2014. As noted in the preamble to the final rule, the FAA is revising the ATP knowledge test to incorporate the new aeronautical knowledge areas in the airline transport pilot certification training program (ATP CTP). 78 FR 42324, 42342. Although applicants for the knowledge test may complete the ATP CTP prior to August 1, 2014, the revised knowledge test upon which the 60-month expiration date is based will not be available until August 1, 2014. As such, the FAA has added the relevant date to § 61.39(a)(1)(ii) for clarity. All knowledge tests for the ATP certificate taken prior to August 1, 2014, will continue to have a 24-month expiration date.

The FAA is making two clarifying amendments to § 61.159. Section 61.159(a)(3) is revised to clarify that the 25 hours of aeronautical experience in a full flight simulator must be appropriate to the class of aircraft (e.g. multiengine-land) for the rating sought. Section 61.159(a)(6) is revised to clarify that applicants for the restricted privileges ATP certificate may credit 100 hours of time accomplished in flight simulation training devices (full flight simulators and flight training devices) toward the total aeronautical experience requirements in § 61.160. As currently written, § 61.159(a)(6) could be construed as allowing only applicants for an ATP certificate under the aeronautical experience requirements in § 61.159 to credit time in a flight simulation training device. It was not the FAA's intention to prevent applicants for the restricted privileges ATP certificate from utilizing that provision.

The FAA is clarifying in § 61.165(f)(2) that applicants seeking to add a multiengine class rating to an ATP certificate with a single engine class rating are only required to take a new knowledge test after July 31, 2014—the date that the new knowledge test that incorporates the aeronautical knowledge areas specific to the ATP CTP will be available.

Finally, the FAA is correcting two cross-reference errors. In § 61.167, the FAA is correcting the reference in paragraph (a)(2)(ii) to reflect paragraph (a)(2)(i) rather than (b)(1). The FAA is also revising § 135.341(a) by replacing the reference to paragraph (c) with the proper reference to § 135.336.

Because these amendments clarify existing requirements and result in no substantive change, the FAA finds that the notice and public procedures under 5 U.S.C. 553(b) are unnecessary. For the same reason, the FAA finds good cause exists under 5 U.S.C. 553(d)(3) to make the amendments effective in less than 30 days.

List of Subjects

14 CFR Part 61

Aircraft, Airmen, Aviation safety.

14 CFR Part 121

Air carriers, Aircraft, Airmen, Aviation safety.

14 CFR Part 135

Air taxis, Aircraft, Airmen, Aviation safety.

Correcting Amendment

In consideration of the foregoing, the Federal Aviation Administration is amending chapter I of title 14, Code of Federal Regulations as follows:

PART 61—CERTIFICATION: PILOTS, FLIGHT INSTRUCTORS, AND GROUND INSTRUCTORS

1. The authority citation for part 61 continues to read as follows:

Authority: 49 U.S.C. 106(f), 106(g), 40113, 44701-44703, 44707, 44709-44711, 45102-45103, 45301-45302.

2. Amend § 61.35 by revising paragraph (a)(3) to read as follows:

§ 61.35 Knowledge test: Prerequisites and passing grades.

(a) * * *

(3) Proper identification at the time of application that contains the applicant's—

(i) Photograph;

(ii) Signature;

(iii) Date of birth, which shows:

(A) For issuance of certificates other than the ATP certificate with an airplane category multiengine class rating, the applicant meets or will meet the age requirements of this part for the certificate sought before the expiration date of the airman knowledge test report;

(B) Prior to August 1, 2014, for issuance of an ATP certificate with an airplane category multiengine class rating under the aeronautical experience requirements of §§ 61.159 or 61.160, the applicant is at least 21 years of age at the time of the knowledge test; and

(C) After July 31, 2014, for issuance of an ATP certificate with an airplane category multiengine class rating obtained under the aeronautical experience requirements of §§ 61.159 or 61.160, the applicant is at least 18 years of age at the time of the knowledge test;

(iv) If the permanent mailing address is a post office box number, then the applicant must provide a current residential address.

* * * * *

3. Amend § 61.39 by revising paragraph (a)(1)(ii) to read as follows:

§ 61.39 Prerequisites for practical tests.

(a) * * *

(1) * * *

(ii) Within the 60-calendar month period preceding the month the applicant completes the practical test for those applicants who complete the airline transport pilot certification training program in § 61.156 and pass the knowledge test for an airline transport pilot certificate with a multiengine class rating after July 31, 2014;

* * * * *

4. Amend § 61.159 by revising paragraphs (a)(3) and (a)(6) to read as follows:

§ 61.159 Aeronautical experience: Airplane category rating.

(a) * * *

(3) 50 hours of flight time in the class of airplane for the rating sought. A maximum of 25 hours of training in a full flight simulator representing the class of airplane for the rating sought may be credited toward the flight time requirement of this paragraph if the training was accomplished as part of an approved training course in parts 121, 135, 141, or 142 of this chapter. A flight training device or aviation training device may not be used to satisfy this requirement.

* * * * *

(6) Not more than 100 hours of the total aeronautical experience requirements of paragraph (a) of this section or § 61.160 may be obtained in a full flight simulator or flight training device provided the device represents an airplane and the aeronautical experience was accomplished as part of an approved training course in parts 121, 135, 141, or 142 of this chapter.

* * * * *

5. Amend § 61.165 by revising paragraph (f)(2) to read as follows:

§ 61.165 Additional aircraft category and class ratings.

* * * * *

(f) * * *

(2) After July 31, 2014, pass a required knowledge test on the aeronautical knowledge areas of § 61.155(c), as applicable to multiengine airplanes;

* * * * *

§ 61.167 [Amended]

6. Amend § 61.167 by removing the phrase “paragraph (b)(1)” from paragraph (a)(2)(ii) and adding the phrase “paragraph (a)(2)(i)” in its place.

PART 121—OPERATING REQUIREMENTS: DOMESTIC, FLAG, AND SUPPLEMENTAL OPERATIONS

7. The authority citation for part 121 continues to read as follows:

Authority: 49 U.S.C. 106(f), 106(g), 40113, 40119, 41706, 44101, 44701-44702, 44705, 44709-44711, 44713, 44716-44717, 44722, 46105.2.

8. Amend § 121.436 by revising paragraph (a)(3) to read as follows:

§ 121.436 Pilot qualification: Certificates and experience requirements.

(a) * * *

(3) If serving as pilot in command in part 121 operations, has 1,000 hours as second in command in operations under this part, pilot in command in operations under § 91.1053(a)(2)(i) of this chapter, pilot in command in operations under § 135.243(a)(1) of this chapter, or any combination thereof. For those pilots who are employed as pilot in command in part 121 operations on July 31, 2013, compliance with the requirements of this paragraph (a)(3) is not required.

* * * * *

PART 135—OPERATING REQUIREMENTS: COMMUTER AND ON DEMAND OPERATIONS AND RULES GOVERNING PERSONS ON BOARD SUCH AIRCRAFT

9. The authority citation for part 135 continues to read as follows:

Authority: 49 U.S.C. 106(f), 106(g), 41706, 40113, 44701-44702, 44705, 44709, 44711-44713, 44715-44717, 44722, 45101-45105.

10. Amend § 135.3 by revising paragraph (b) to read as follows:

§ 135.3 Rules applicable to operations subject to this part.

* * * * *

(b) Each certificate holder that conducts commuter operations under this part with airplanes in which two pilots are required by the type certification rules of this chapter shall comply with subparts N and O of part 121 of this chapter instead of the requirements of subparts E, G, and H of this part. Notwithstanding the requirements of this paragraph, a pilot serving under this part as second in command in a commuter operation with airplanes in which two pilots are required by the type certification rules of this chapter may meet the requirements of § 135.245 instead of the requirements of § 121.436.

* * * * *

§ 135.341 [Amended]

11. Amend § 135.341 by removing the phrase “paragraph (c) of this section” from paragraph (a) and adding the phrase “§ 135.336” in its place.

Issued in Washington, DC under the authority provided by 49 U.S.C. 106(f), 44701(a) and Secs. 216-217, Public Law 111-216, 124 Stat. 2348 on December 18, 2013
Lirio Liu,
Director, Office of Rulemaking.

[FR Doc. 2013-30603 Filed 12-23-13; 8:45 am]

BILLING CODE 4910-13-P